DEPARTMENT OF TRANSPORTATION

Federal Highway Administration

Notice of Final Federal Agency Actions on Proposed Highway in Utah

AGENCY: Federal Highway Administration (FHWA), DOT.

ACTION: Notice of Limitation of Claims for Judicial Review of Actions by FHWA and Other Federal Agencies.

SUMMARY: This notice announces actions taken by the FWHA that are final within the meaning of 23 U.S.C. 139(l)(1). The actions relate to the proposed I-15; MP 0 to MP 16 project in Washington County in the State of Utah. These actions grant approvals for the project.

DATES: By this notice, the FHWA is advising the public of final agency actions subject to 23 U.S.C. 139(l)(1). A claim seeking judicial review of the FHWA actions on the highway project will be barred unless the claim is filed on or before August 19, 2013. If the Federal law that authorizes judicial review of a claim provides a time period of less than 150 days for filing such claim, then that shorter time period still applies.

FOR FURTHER INFORMATION CONTACT: Mr. David Cox, Area Engineer, Region 4, FHWA Utah Division, 2520 West 4700 South, Suite 9A, Salt Lake City, Utah 84129; telephone: 801-955-3516; email: david.cox@dot.gov. The FHWA Utah Division Office's normal business hours are 7:30 a.m. to 4:30 p.m. (Mountain Standard Time), Monday through Friday, except Federal holidays.

SUPPLEMENTARY INFORMATION: Notice is hereby given that the FHWA has taken final agency action subject to 23 U.S.C. 139(l)(1) by issuing licenses, permits, and approvals for the I-15; MP 0 to MP 16 project in the State of Utah. The I-15; MP 0 to MP 16 project proposes to provide transportation improvements to I-15 between MP 0 and MP 16 in Washington County, Utah. The project consists of the following improvements: Constructing one additional general purpose lane on I-15 in both the northbound and southbound directions between Southern Parkway and SR-9; constructing auxiliary lanes between the Port-of-Entry and Southern Parkway, between Brigham Road and Dixie Drive, and between Washington Parkway and SR-9; removing the existing roundabouts and constructing a Single Point Interchange (SPI) at the Brigham Road Interchange; replacing the I-15 bridges over the Virgin River; converting the existing diamond interchange to a diverging diamond interchange (DDI) at the St. George Boulevard Interchange; constructing an I-15 overpass at Mall Drive; reconfiguring the Red Hills Parkway/Green Springs Drive intersection to a thru-turn configuration; and improving the SR-9 Interchange by improving the southbound exit deceleration coming into the loop ramp, upgrading the loop ramp geometry, creating a three lane exit ramp northbound, creating a two lane entrance ramp southbound, and creating additional lanes on SR-9 between the I-15 Interchange and the Coral Canyon Interchange just east of I-15 on SR-9. The actions by the FHWA and the laws under which such actions were taken are described in the Environmental Assessment (EA) and in the Finding of No Significant Impact (FONSI) issued on January 24, 2013.

This notice applies to all FHWA decisions as of the issuance date of this notice and all laws under which such actions were taken. Laws generally applicable to such actions include but are not limited to:

1. General: National Environmental Policy Act (NEPA) [42 U.S.C. 4321-4351; Federal-Aid Highway Act [23 U.S.C. 109].

2. Wildlife: Endangered Species Act [16 U.S.C. 1531-1544 and 1536]; Fish and Wildlife Coordination Act [16 U.S.C. 661-667(d); Migratory Bird Treaty Act [16 U.S.C. 703-712].

3. Cultural Resources: Section 106 of the National Historic Preservation Act of 1966, as amended [16 U.S.C. 470(f) et seq.]; Archaeological and Historic Preservation Act [16 U.S.C. 469-469(c)]; Archaeological Resources Protection Act of 1977 [16 U.S.C. 470(aa)-11].

4. Noise: Federal-Aid Highway Act of 1970 [Pub. L. 91-605, 84 Stat. 1713]

5. Executive Orders: E.O. 11593 Protection and Enhancement of Cultural Resources; E.O. 13287 Preserve America.

(Catalog of Federal Domestic Assistance Program Number 20.205, Highway Planning and Construction. The regulations implementing Executive Order 12372 regarding intergovernmental consultation on Federal programs and activities apply to this program.)

Authority: 23 U.S.C. 139(l)(1).

Issued on: March 7, 2013.
James C. Christian,
Division Administrator, Federal Highway Administration.

[FR Doc. 2013-06620 Filed 3-21-13; 8:45 am]

BILLING CODE 4910-RY-P